DEPARTMENT OF TRANSPORTATION

Federal Motor Carrier Safety Administration

[Docket No. FMCSA-2025-0015]

Qualification of Drivers; Exemption Applications; Epilepsy and Seizure Disorders

AGENCY: Federal Motor Carrier Safety Administration (FMCSA), Department of Transportation (DOT).

ACTION: Notice of applications for exemption; request for comments.

SUMMARY: FMCSA announces receipt of applications from 20 individuals for an exemption from the prohibition in the Federal Motor Carrier Safety Regulations (FMCSRs) against persons with a clinical diagnosis of epilepsy or any other condition that is likely to cause a loss of consciousness or any loss of ability to control a commercial motor vehicle (CMV) to drive in interstate commerce. If granted, the exemptions would enable these individuals who have had one or more seizures and are taking anti-seizure medication to operate CMVs in interstate commerce.

DATES: Comments must be received on or before March 25, 2026.

ADDRESSES: You may submit comments identified by Docket No. FMCSA-2025-0015 using any of the following methods:

• Federal eRulemaking Portal: Go to www.regulations.gov, insert the docket number (FMCSA-2025-0015) in the keyword box and click “Search.” Next, choose the only notice listed, and click on the “Comment” button. Follow the online instructions for submitting comments.

• Mail: Dockets Operations; U.S. Department of Transportation, 1200 New Jersey Avenue SE, W58-213, Washington, DC 20590-0001.

• Hand Delivery: West Building Ground Floor, 1200 New Jersey Avenue SE, W58-213, Washington, DC 20590-0001 between 9 a.m. and 5 p.m. ET Monday through Friday, except Federal Holidays.

• Fax: (202) 493-2251.

To avoid duplication, please use only one of these four methods. See the “Public Participation” portion of the SUPPLEMENTARY INFORMATION section for instructions on submitting comments.

FOR FURTHER INFORMATION CONTACT: Ms. Christine A. Hydock, Chief, Medical Programs Division, FMCSA, DOT, 1200 New Jersey Avenue SE, Washington, DC 20590-0001, (202) 366-4001, fmcsamedical@dot.gov. Office hours are 8:30 a.m. to 5 p.m. ET Monday through Friday, except Federal holidays. If you have questions regarding viewing or submitting material to the docket, contact Dockets Operations, (202) 366-9826.

SUPPLEMENTARY INFORMATION:

I. Public Participation

A. Submitting Comments

If you submit a comment, please include the docket number for this notice (FMCSA-2025-0015), indicate the specific section of this document to which each comment applies, and provide a reason for each suggestion or recommendation. You may submit your comments and material online or by fax, mail, or hand delivery, but please use only one of these means. FMCSA recommends that you include your name and a mailing address, an email address, or a phone number in the body of your document so that FMCSA can contact you if there are questions regarding your submission.

To submit your comment online, go to https://www.regulations.gov/docket/FMCSA-2025-0015. Next, choose the only notice listed, click the “Comment” button, and type your comment into the text box on the following screen. Choose whether you are submitting your comment as an individual or on behalf of a third party and then submit.

If you submit your comments by mail or hand delivery, submit them in an unbound format, no larger than 8½ by 11 inches, suitable for copying and electronic filing. FMCSA will consider all comments and material received during the comment period.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

C. Viewing Comments

To view comments, go to www.regulations.gov, insert the docket number (FMCSA-2025-0015) in the keyword box and click “Search.” Next, choose the only notice listed, and click “Browse Comments.” If you do not have access to the internet, you may view the docket online by visiting Dockets Operations on the ground floor of the DOT West Building, 1200 New Jersey Avenue SE, Washington, DC 20590-0001, between 9 a.m. and 5 p.m. ET Monday through Friday, except Federal holidays. To be sure someone is there to help you, please call (202) 366-9317 or (202) 366-9826 before visiting Dockets Operations.

D. Privacy Act

In accordance with 49 U.S.C. 31315(b)(6), DOT solicits comments from the public on the exemption request. DOT posts these comments, including any personal information the commenter provides, to www.regulations.gov, as described in the system of records notice DOT/ALL-14 FDMS (Federal Docket Management System), which can be reviewed under the “Department Wide System of Records Notices” link at https://www.transportation.gov/individuals/privacy/privacy-act-system-records-notices. The comments are posted without edit and are searchable by the name of the submitter.

II. Legal Basis

FMCSA has authority under 49 U.S.C. 31136(e) and 31315(b) to grant exemptions from the FMCSRs. FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved absent such exemption, pursuant to the standard set forth 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)). FMCSA grants medical exemptions from the FMCSRs for a 2-year period to align with the maximum duration of a driver's medical certification.

III. Background

The physical qualification standard for drivers regarding seizures and loss of consciousness provides that a person is physically qualified to drive a CMV if that person has “no established medical history or clinical diagnosis of epilepsy or any other condition which is likely to cause the loss of consciousness or any loss of ability to control” a CMV (49 CFR 391.41(b)(8)). To assist in applying this standard, FMCSA publishes guidance for medical examiners (MEs) in the form of medical advisory criteria in Appendix A to 49 CFR part 391.¹ In 2007, FMCSA published recommendations from a Medical Expert Panel (MEP) that FMCSA tasked to review the existing seizure disorder guidelines for MEs.² The MEP performed a comprehensive, systematic literature review, including evidence available at the time. The MEP issued recommended criteria to evaluate whether an individual with a history of epilepsy, a single unprovoked seizure, or a provoked seizure should be allowed to drive a CMV.

¹ Appendix A to Part 391, Title 49, available at https://www.ecfr.gov/current/title-49/part-391/appendix-Appendix A to Part 391.

² “Expert Panel Recommendations, Seizure Disorders and Commercial Motor Vehicle Driver Safety,” Medical Expert Panel (Oct. 15, 2007), available at https://www.fmcsa.dot.gov/sites/fmcsa.dot.gov/files/2020-04/Seizure-Disorders-MEP-Recommendations-v2-prot%2010152007.pdf.

On January 15, 2013, FMCSA began granting exemptions, on a case-by-case basis, to individual drivers from the physical qualification standard regarding seizures and loss of consciousness in 49 CFR 391.41(b)(8) (78 FR 3069). The Agency considers the medical advisory criteria, the 2007 MEP recommendations, any public comments received, and each individual's medical information and driving record in deciding whether to grant the exemption.

The 20 individuals listed in this notice have requested an exemption from the epilepsy and seizure disorders prohibition in 49 CFR 391.41(b)(8). Accordingly, the Agency will evaluate the qualifications of each applicant to determine whether granting the exemption will achieve the required level of safety mandated by statute.

IV. Qualifications of Applicants

Coby Alexander

Coby Alexander is a 32-year-old class F license holder in Missouri. He has a history of generalized idiopathic epilepsy and has been seizure free since July 2022. He takes anti-seizure medication with the dosage and frequency remaining the same since 2022. His physician states that they are supportive of him receiving an exemption.

Nathan Bauer

Nathan Bauer is a 29-year-old class A commercial driver's license (CDL) holder in Pennsylvania. He has a history of epilepsy and has been seizure free since March 2, 2024. He takes anti-seizure medication with the dosage and frequency remaining the same since May 2024. His physician states that they are supportive of him receiving an exemption.

Robert Calvert

Robert Calvert is a 47-year-old class CM license holder in Wyoming. He has a history of epilepsy and has been seizure free since April 2022. He takes anti-seizure medication with the dosage and frequency remaining the same since May 2025. His physician states that they are supportive of him receiving an exemption.

Daniel Diaz-Gonzalez

Daniel Diaz-Gonzalez is a 42-year-old class C license holder in Texas. He has a history of seizure disorder and has been seizure free since October 2022. He takes anti-seizure medication with the dosage and frequency remaining the same since October 2022. His physician states that they are supportive of him receiving an exemption.

Muhammad Elbaba

Muhammad Elbaba is a 56-year-old class D driver's license holder in Minnesota. He has a history of a single denovo seizure and has been seizure free since December 5, 2022. He takes anti-seizure medication with the dosage and frequency remaining the same since 2022. His physician states that they are supportive of him receiving an exemption.

Daniel Hernandez

Daniel Hernandez is a 20-year-old class D driver's license holder in Arizona. He has a history of epilepsy and has been seizure free since January 18, 2023. He takes anti-seizure medication with the dosage and frequency remaining the same since August 2021. His physician states that they are supportive of him receiving an exemption.

Adam Humlick

Adam Humlick is a 47-year-old class AM1 CDL holder in California. He has a history of seizure disorder and has been seizure free since April 2023. He takes anti-seizure medication with the dosage and frequency remaining the same since 2023. His physician states that they are supportive of him receiving an exemption.

Jagpi Irish

Jagpi Irish is a 42-year-old class AM CDL holder in New York. He has a history of post traumatic epilepsy and has been seizure free since October 2019. He takes anti-seizure medication with the dosage and frequency remaining the same since October 2019. His physician states that they are supportive of him receiving an exemption.

Christoper Johnson

Christoper Johnson is a 30-year-old class C license holder in Pennsylvania. He has a history of nocturnal generalized seizures and has been seizure free since September 29, 2022. He takes anti-seizure medication with the dosage and frequency remaining the same since April 22, 2024. His physician states that they are supportive of him receiving an exemption.

Kevin Lay

Kevin Lay is a 46-year-old class A driver's CDL holder in Montana. He has a history of single unprovoked seizure and has been seizure free since October 17, 2024. He takes anti-seizure medication with the dosage and frequency remaining the same since 2025. His physician states that they are supportive of him receiving an exemption.

Daniel Lopez-Miranda

Daniel Lopez-Miranda is a 36-year-old class D driver's license holder in Oklahoma. He has a history of focal epilepsy and has been seizure free since March 20, 2020. He takes anti-seizure medication with the dosage and frequency remaining the same since April 7, 2023. His physician states that they are supportive of him receiving an exemption.

Jacob McNally

Jacob McNally is a 31-year-old CDL holder in Connecticut. He has a history of seizure disorder and has been seizure free since 2015. He takes anti-seizure medication with the dosage and frequency remaining the same since January 10, 2024. His physician states that they are supportive of him receiving an exemption.

John R. Moore

John R. Moore is a 49-year-old class D license holder in Tennessee. He has a history of seizure disorder and has been seizure free since February 2022. He takes anti-seizure medication with the dosage and frequency remaining the same since July 10, 2025. His physician states that they are supportive of him receiving an exemption.

Ryan Moore

Ryan Moore is a 43-year-old class A CDL holder in North Carolina. He has a history of seizure disorder and has been seizure free since September 20, 2009. He takes anti-seizure medication with the dosage and frequency remaining the same since February 6, 2025. His physician states that they are supportive of him receiving an exemption.

Dwayne Paul

Dwayne Paul is a 61-year-old class A CDL holder in Indiana. He has a history of seizure disorder and has been seizure free since January 27, 2020. He takes anti-seizure medication with the dosage and frequency remaining the same since October 18, 2023. His physician states that they are supportive of him receiving an exemption.

Camille Pointdexter

Camille Pointdexter is a 25-year-old class CA CDL holder in Michigan. She has a history of benign focal childhood epilepsy and has been seizure free since 2012. She takes anti-seizure medication with the dosage and frequency remaining the same since 2019. Her physician states that they are supportive of her receiving an exemption.

Joel Tapper

Joel Tapper is a 72-year-old class D regular license holder in Iowa. He has a history of epilepsy and has been seizure free since February 23, 2025. He takes anti-seizure medication with the dosage and frequency remaining the same since July 30, 2025. His physician states that they are supportive of him receiving an exemption.

Matthew Toy

Matthew Toy is a 44-year-old class C license holder in Maryland. He has a history of seizure disorder and has been seizure free since 2002. He takes anti-seizure medication with the dosage and frequency remaining the same since March 2025. His physician states that they are supportive of him receiving an exemption.

Geordarius Tucker

Geordarius Tucker is a 22-year-old class A CDL holder in Mississippi. He has a history of seizure disorder and has been seizure free since April 28, 2025. He takes anti-seizure medication with the dosage and frequency remaining the same since 2025. His physician states that they are supportive of him receiving an exemption.

Shannon Watkins

Shannon Watkins is a 35-year-old class C license holder in Georgia. She has a history of epilepsy and has been seizure free since February 2022. She takes anti-seizure medication with the dosage and frequency remaining the same since January 2023. Her physician states that they are supportive of her receiving an exemption.

V. Request for Comments

In accordance with 49 U.S.C. 31136(e) and 31315(b), FMCSA requests public comment from all interested persons on the exemption applications described in this notice. FMCSA will consider all comments received before the close of business on the closing date indicated under the DATES section of the notice.

Larry W. Minor,
Associate Administrator for Policy.

[FR Doc. 2026-03462 Filed 2-20-26; 8:45 am]

BILLING CODE 4910-EX-P